SMALL BUSINESS ADMINISTRATION

[Declaration of Disaster #3271]

State Of Minnesota

As a result of the President's major disaster declaration on June 27, 2000 for Public Assistance only, and an amendment thereto on June 30 adding Individual Assistance, I find that Becker, Clay, Norman, and Mahnomen Counties and the White Earth Indian Reservation in the State of Minnesota constitute a disaster area due to damages caused by severe storms and flooding beginning on May 17, 2000, and continuing. Applications for loans for physical damage as a result of this disaster may be filed until the close of business on August 29, 2000 and for economic injury until the close of business on March 30, 2001 at the address listed below or other locally announced locations: U.S. Small Business Administration, Disaster Area 2 Office, One Baltimore Place, Suite 300, Atlanta, GA 30308.

In addition, applications for economic injury loans from small businesses located in the contiguous counties of Clearwater, Hubbard, Otter Tail, Polk, Wadena, and Wilkin in the State of Minnesota may be filed until the specified date at the above location. Any counties contiguous to the above-named primary counties and not listed herein have been previously declared under a separate declaration for the same occurrence.

The interest rates are:

| Percent
For Physical Damage
Homeowners with credit available elsewhere | 7.375
Homeowners without credit available elsewhere | 3.687
Businesses with credit available elsewhere | 8.000
Businesses and non-profit organizations without credit available elsewhere | 4.000
Others (including non-profit organizations) with credit available elsewhere | 6.750
For Economic Injury
Businesses and small agricultural cooperatives without credit available elsewhere | 4.000

The number assigned to this disaster for physical damage is 327106 and for economic injury the number is 9H7500.

(Catalog of Federal Domestic Assistance Program Nos. 59002 and 59008).

Dated: July 6, 2000.
Herbert L. Mitchell,
Acting Associate Administrator for Disaster Assistance.

[FR Doc. 00-17890 Filed 7-13-00; 8:45 am]

BILLING CODE 8025-01-P